CHEMICAL SAFETY AND HAZARD INVESTIGATION BOARD

Sunshine Act Meeting

TIME AND DATE: June 10, 2015, 9 a.m.-5 p.m. EDT.

PLACE: U.S. Chemical Safety Board, 2175 K St. NW., 4th Floor Conference Room, Washington, DC 20037.

STATUS: Open to the public.

MATTERS TO BE CONSIDERED: The Chemical Safety and Hazard Investigation Board (CSB) will convene a public meeting on June 10, 2015, starting at 9 a.m. at the CSB's headquarters, located at 2175 K St. NW., 4th Floor Conference Room, Washington, DC 20037. The first part of the public meeting (9 a.m. to 12:30 p.m.) will focus on a discussion with stakeholders and provide an opportunity for public comment regarding emerging safety issues and CSB's investigations and recommendations programs. The morning agenda may also include Board discussion and vote(s) on motions related to Board governance when there is a vacancy in the Chairperson position.

In the afternoon part of the public meeting (starting at 1:30 p.m.), the Board will consider and may vote on the final report of the CSB's investigation into the 2009 incident at the CAPECO petroleum tank farm in Puerto Rico. Following the staff presentation, the Board will hear comments from the public. All staff presentations are preliminary and are intended solely to allow the Board to consider in a public forum the issues and factors involved in the case. No factual analyses, conclusions, or findings presented by staff should be considered final. At the conclusion of the staff presentation, the Board may vote on the final product(s).

Additional Information

The meeting is free and open to the public. If you require a translator or interpreter, please notify the individual listed below as the “Contact Person for Further Information,” at least three business days prior to the meeting.

The CSB is an independent federal agency charged with investigating accidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Comment

The time provided for public statements will depend upon the number of people who wish to speak. Speakers should assume that their presentations will be limited to five minutes or less, but commenters may submit written statements for the record.

Contact Person for Further Information

Hillary J. Cohen, Communications Manager, hillary.cohen@csb.gov or (202) 446-8094. Further information about this public meeting can be found on the CSB Web site at: www.csb.gov.

Dated: May 21, 2015.
Mark Griffon,
Board Member.

[FR Doc. 2015-12822 Filed 5-22-15; 11:15 am]

BILLING CODE 6350-01-P